DEPARTMENT OF HOMELAND SECURITY

Coast Guard

33 CFR Part 117

[Docket No. USCG-2017-0456]

Drawbridge Operation Regulation; Lake Washington Ship Canal, Seattle, WA

AGENCY: Coast Guard, DHS.

ACTION: Notice of deviation from drawbridge regulation.

SUMMARY: The Coast Guard has issued a temporary deviation from the operating schedule that governs the Ballard Bridge, mile 1.1, the Fremont Bridge, mile 2.6, and the University Bridge, mile 4.3, all crossing the Lake Washington Ship Canal at Seattle, WA. The deviation is necessary to accommodate the 4th of July fireworks event. This deviation allows the bridges to remain in the closed-to-navigation position to allow for the safe movement of event participants.

DATES: This deviation is effective from 9 p.m. on July 4, 2017, to 1 a.m. on July 5, 2017.

ADDRESSES: The docket for this deviation, [USCG-2017-0456] is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: Seattle Department of Transportation, the owner of the impacted drawbridges, requested a temporary deviation from the operating schedule for the Ballard Bridge, mile 1.1, the Fremont Bridge, mile 2.6, and the University Bridge, mile 4.3, all crossing the Lake Washington Ship Canal at Seattle, WA, to facilitate safe passage of participants in the 4th of July fireworks event. The Ballard Bridge provides a vertical clearance of 29 feet in the closed-to-navigation position; the University Bridge provides a vertical clearance of 30 feet in the closed-to-navigation position; the Fremont Bridge provides a vertical clearance of 14 feet (31 feet of vertical clearance for the center 36 horizontal feet) in the closed-to-navigation position. Vertical clearances are referenced to the Mean Water Level of Lake Washington. The normal operating schedule for the three subject bridges is in 33 CFR 117.1051. During this deviation period, the Ballard Bridge and University Bridge need not open to marine vessels from 10 p.m. on July 4, 2017, to 1:00 a.m. on July 5, 2017, and the Fremont Bridge need not open to marine vessels from 9 p.m. on July 4, 2017, to 00:30 a.m. on July 5, 2017.

Waterway usage on Lake Washington Ship Canal ranges from commercial tug and barge to small pleasure craft. The Coast Guard conducted outreach to known users of this waterway for feedback on the deviation and received no objections. Vessels able to pass through the bridges in the closed-to-navigation position may do so at anytime. Both bridges will be able to open for emergencies, and there is no immediate alternate route for vessels to pass. The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: June 2, 2017.
Steven M. Fischer,
Bridge Administrator, Thirteenth Coast Guard District.

[FR Doc. 2017-11901 Filed 6-7-17; 8:45 am]

BILLING CODE 9110-04-P